DEPARTMENT OF COMMERCE

National Institute of Standards and Technology

National Fire Codes: Request for Comments on NFPA Technical Committee Reports

AGENCY: National Institute of Standards and Technology, Commerce.

ACTION: Notice.

SUMMARY: The National Institute of Standards and Technology (NIST) is publishing this notice on behalf of the National Fire Protection Association (NFPA) to announce the availability of and request comments on the technical reports that will be presented at NFPA's 2012 Annual Revision Cycle.

DATES: Thirty-eight reports are published in the 2012 Annual Cycle Report on Proposals and will be available on June 24, 2011. Comments received by 5 p.m. EST/EDST on or before August 30, 2011 will be considered by the respective NFPA Committees before final action is taken on the proposals.

ADDRESSES: The 2012 Annual Revision Cycle Report on Proposals is available and downloadable from NFPA's Web site— http://www.nfpa.org, or by requesting a copy from the NFPA, Fulfillment Center, 11 Tracy Drive, Avon, Massachusetts 02322. Comments on the report should be submitted to Amy Beasley Cronin, Secretary, Standards Council, NFPA, 1 Batterymarch Park, Quincy, Massachusetts 02169-7471.

FOR FURTHER INFORMATION CONTACT: Amy Beasley Cronin, Secretary, Standards Council, NFPA, 1 Batterymarch Park, Quincy, Massachusetts 02169-7471, (617) 770-3000.

SUPPLEMENTARY INFORMATION:

Since 1896, the National Fire Protection Association (NFPA) has accomplished its mission by advocating scientifically based consensus codes and standards, research, and education for safety related issues. NFPA's National Fire Codes®, which holds over 290 documents, are administered by more than 238 Technical Committees comprised of approximately 7,200 volunteers and are adopted and used throughout the world. NFPA is a nonprofit membership organization with approximately 80,000 members from over 70 nations, all working together to fulfill the Association's mission.

The NFPA process provides ample opportunity for public participation in the development of its codes and standards. All NFPA codes and standards are revised and updated every three to five years in Revision Cycles that begin twice each year and that take approximately two years to complete. Each Revision Cycle proceeds according to a published schedule that includes final dates for all major events in the process. The code revision Process contains five basic steps that are followed for developing new documents as well as revising existing documents: Call for Proposals; Report on Proposals (ROP); Call for Comments on the Committee's disposition of the Proposals and publication of these Comments in the Report on Comments (ROC); the Association Technical Meeting at the NFPA Conference & Expo; and finally, the Standards Council Consideration and Issuance of documents.

NOTE: NFPA rules state that, anyone wishing to make Amending Motions on the Technical Committee Reports (ROP and ROC) must signal his or her intention by submitting a Notice of Intent to Make a Motion by the Deadline of 5 p.m. EST/EDST on or before April 6, 2012. Certified motions will be posted by May 4, 2012. Documents that receive notice of proper Amending Motions (Certified Amending Motions) will be presented for action at the Annual 2012 Association Technical Meeting. Documents that receive no motions will be forwarded directly to the Standards Council for action on issuance at its May 29, 2012 meeting.

For more information on these new rules and for up-to-date information on schedules and deadlines for processing NFPA Documents, check the NFPA Web site at http://www.nfpa.org, or contact NFPA Codes and Standards Administration.

The purpose of this notice is to request comments on the technical reports that will be presented at NFPA's 2012 Annual Revision Cycle. The publication of this notice by the National Institute of Standards and Technology (NIST) on behalf of NFPA is being undertaken as a public service; NIST does not necessarily endorse, approve, or recommend any of the standards referenced in the notice.

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR part 51.

Request for Comments

Interested persons may participate in these revisions by submitting written data, views, or arguments, to Amy Beasley Cronin, Secretary, Standards Council, NFPA, 1 Batterymarch Park, Quincy, Massachusetts 02169-7471. Commenters may use the forms provided for comments in the Reports on Proposals. Each person submitting a comment should include his or her name and address, identify the notice, and give reasons for any recommendations. Comments received by 5 p.m. EST/EDST on or before August 30, 2011 for the 2012 Annual Cycle Report on Proposals will be considered by the NFPA before final action is taken on the proposals.

Copies of all written comments received and the disposition of those comments by the NFPA committees will be published as the 2012 Annual Cycle Report on Comments by February 24, 2012. A copy of the Report on Comments will be sent automatically to each commenter. Reports of the Technical Committees on documents that do not receive a Notice of Intent to Make a Motion will automatically be forwarded to the Standards Council for action on issuance. Action on the reports of the Technical Committees on documents that do receive a Notice of Intent to Make a Motion will be taken at the Association Technical Meeting, which is held at the NFPA Conference & Expo, June 4-7, 2012 in Las Vegas, Nevada, by the NFPA membership.

2012 Annual Meeting—Report on Proposals
NFPA 13 | Standard for the Installation of Sprinkler Systems | P
NFPA 13D | Standard for the Installation of Sprinkler Systems in One- and Two-Family Dwellings and Manufactured Homes | P
NFPA 13R | Standard for the Installation of Sprinkler Systems in Residential Occupancies up to and Including Four Stories in Height | P
NFPA 20 | Standard for the Installation of Stationary Pumps for Fire Protection | P
NFPA 24 | Standard for the Installation of Private Fire Service Mains and Their Appurtenances | P
NFPA 51 | Standard for the Design and Installation of Oxygen-Fuel Gas Systems for Welding, Cutting, and Allied Processes | P
NFPA 55 | Compressed Gases and Cryogenic Fluids Code | P
NFPA 61 | Standard for the Prevention of Fires and Dust Explosions in Agricultural and Food Processing Facilities | P
NFPA 68 | Standard on Explosion Protection by Deflagration Venting | P
NFPA 72 | National Fire Alarm and Signaling Code | P
NFPA 80 | Standard for Fire Doors and Other Opening Protectives | P
NFPA 101A | Guide on Alternative Approaches to Life Safety | P
NFPA 105 | Standard for the Installation of Smoke Door Assemblies and Other Opening Protectives | P
NFPA 110 | Standard for Emergency and Standby Power Systems | P
NFPA 111 | Standard on Stored Electrical Energy Emergency and Standby Power Systems | P
NFPA 291 | Recommended Practice for Fire Flow Testing and Marking of Hydrants | P
NFPA 301 | Code for Safety to Life from Fire on Merchant Vessels | P
NFPA 400 | Hazardous Materials Code | P
NFPA 402 | Guide for Aircraft Rescue and Fire-Fighting Operations | P
NFPA 415 | Standard on Airport Terminal Buildings, Fueling Ramp Drainage, and Loading Walkways | P
NFPA 424 | Guide for Airport/Community Emergency Planning | P
NFPA 450 | Guide for Emergency Medical Services and Systems | P
NFPA 472 | Standard for Competence of Responders to Hazardous Materials/Weapons of Mass Destruction Incidents | P
NFPA 473 | Standard for Competencies for EMS Personnel Responding to Hazardous Materials/Weapons of Mass Destruction Incidents | P
NFPA 555 | Guide on Methods for Evaluating Potential for Room Flashover | P
NFPA 654 | Standard for the Prevention of Fire and Dust Explosions from the Manufacturing, Processing, and Handling of Combustible Particulate Solids | P
NFPA 1001 | Standard for Fire Fighter Professional Qualifications | P
NFPA 1122 | Code for Model Rocketry | P
NFPA 1124 | Code for the Manufacture, Transportation, Storage, and Retail Sales of Fireworks and Pyrotechnic Articles | P
NFPA 1127 | Code for High Power Rocketry | P
NFPA 1128DS | Draft Standard for Standard Method of Fire Test for Flame Breaks | N
NFPA 1129DS | Draft Standard for Standard Method of Fire Test for Covered Fuse on Consumer Fireworks | N
NFPA 1144 | Standard for Reducing Structure Ignition Hazards from Wildland Fire | P
NFPA 1221 | Standard for the Installation, Maintenance, and Use of Emergency Services Communications Systems | P
NFPA 1500 | Standard on Fire Department Occupational Safety and Health Program | P
NFPA 1582 | Standard on Comprehensive Occupational Medical Program for Fire Departments | P
NFPA 1801 | Standard on Thermal Imagers for the Fire Service | P
NFPA 1917 | Standard for Automotive Ambulance | N
P = Partial revision; W = Withdrawals; R = Reconfirmation; N = New; C = Complete revision.

Dated: March 28, 2011.
Charles H. Romine,
Acting Associate Director for Laboratory Programs.

[FR Doc. 2011-8041 Filed 4-20-11; 8:45 am]

BILLING CODE 3510-13-P